DEPARTMENT OF THE INTERIOR

Fish and Wildlife Service

[FWS-R3-R-2011-N209; 30136-1265-0000-S3]

DeSoto National Wildlife Refuge, Harrison and Pottawattamie Counties, IA; and Washington County, NE; Comprehensive Conservation Plan and Environmental Assessment

AGENCY: Fish and Wildlife Service, Interior.

ACTION: Notice of intent; request for comments.

SUMMARY: We, the U.S. Fish and Wildlife Service, intend to prepare a comprehensive conservation plan (CCP) and environmental assessment (EA) for the DeSoto National Wildlife Refuge (Refuge, NWR). We provide this notice in compliance with our CCP policy to advise other Federal and State agencies, Tribes, and the public of our intentions, and to obtain suggestions and information on the scope of issues to consider in the planning process. In addition, we will use special mailings, newspaper articles, Internet postings, and other media announcements to inform people of opportunities for input.

ADDRESSES: Send your comments or requests for more information by any one of the following methods:

• Email: tom_cox@fws.gov. Include “DeSoto CCP” in the subject line of the message.

• Fax: Attn: Tom Cox, (712) 642-2877.

• U.S. Mail: Attention: Refuge Manager, DeSoto National Wildlife Refuge, 1434 316th Lane, Missouri Valley, IA 51555-7033.

• In-Person Drop-off: You may drop off comments during regular business hours at the above address.

You may also find information about the CCP planning process on the planning web site: http://www.fws.gov/midwest/planning and submit comments to r3planning@fws.gov. Include “DeSoto CCP” in the subject line of the message.

FOR FURTHER INFORMATION CONTACT: Tom Cox, (712) 642-4121.

SUPPLEMENTARY INFORMATION:

Introduction

With this notice, we initiate our process for developing a revised CCP for the DeSoto NWR, with headquarters in Missouri Valley, IA. This notice complies with our CCP policy to (1) advise other Federal and State agencies, Tribes, and the public of our intention to conduct detailed planning on this refuge and (2) obtain suggestions and information on the scope of issues to consider in the environmental document and during development of the CCP.

This planning effort will be coordinated with the preparation of a CCP and EA for Boyer Chute National Wildlife Refuge, announced in the Federal Register on February 18, 2010 (FWS-R3-R-2009-N243). These refuges are located less than a half mile apart, share management resources, and have similar habitats, wildlife, and publics. Review and revision of refuge management and planning direction were prompted by major impacts to the refuges as a result of flooding on the Missouri River in 2011.

Background

The National Wildlife Refuge System Administration Act of 1966 (16 U.S.C. 668dd-668ee) (Administration Act), as amended by the National Wildlife Refuge System Improvement Act of 1997, requires us to develop a CCP for each national wildlife refuge. The purpose in developing a CCP is to provide refuge managers with a 15-year strategy for achieving refuge purposes and contributing toward the mission of the National Wildlife Refuge System (NWRS), consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS, including DeSoto NWR, was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Refuge Overview

DeSoto National Wildlife Refuge, established in 1958, encompasses 8,358 acres of floodplain habitat on a former oxbow of the Missouri River. The Refuge conserves prairie, wetland, open water, and riparian forest habitats important to migratory waterfowl and other wildlife. Twenty-five miles north of Omaha, Nebraska, DeSoto also provides recreational use for up to 250,000 visitors annually. The Refuge is renowned for housing the Steamboat Bertrand artifact collection, the largest assemblage of Civil War era artifacts in the United States.

Public Involvement

Our CCP process provides participation opportunities for Tribal, State, and local governments; agencies; organizations; and the public. We encourage input in the form of issues, concerns, ideas, and suggestions for the future management of the Desoto NWR. We also invite comments on archeological, historic, and traditional cultural sites in accordance with the National Historic Preservation Act of 1966 (16 U.S.C. 470 et seq.).

We invite anyone interested to respond to the following two questions:

1. What issues do you want to see addressed in the CCP?

2. What improvements would you recommend for the Refuge?

Responding to these two questions is optional; you are not required to provide information to us. Our planning team developed the questions to gather information about individual issues and ideas concerning the Refuge. Comments we receive will be used as part of the planning process; however, we will not reference individual comments in our reports or directly respond to them.

We will also give the public an opportunity to provide input at open houses. You can obtain a schedule of the open house events by contacting the Refuge Manager listed in the ADDRESSES section of this notice.

The environmental review of this project will be conducted in accordance with the requirements of the National Environmental Policy Act of 1969, as amended (42 U.S.C. 4321 et seq.); NEPA Regulations (40 CFR parts 1500-1508); other appropriate Federal laws and regulations; and our policies and procedures for compliance with those regulations.

Public Availability of Comments

Before including your address, phone number, email address, or other personal identifying information in your comment, you should be aware that your entire comment—including your personal identifying information—may be made publicly available at any time. While you can ask us in your comment to withhold your personal identifying information from public review, we cannot guarantee that we will be able to do so.

Charles M. Wooley,
Acting Regional Director, Midwest Region, U.S. Fish and Wildlife Service.

[FR Doc. 2011-31565 Filed 12-7-11; 8:45 am]

BILLING CODE 4310-55-P